Title 3—

The President

Proclamation 7905 of May 20, 2005

Prayer for Peace, Memorial Day, 2005

By the President of the United States of America

A Proclamation

On Memorial Day, we honor the men and women in uniform who have given their lives in service to our Nation. When the stakes were highest, our Soldiers, Sailors, Airmen, Marines, and Coast Guardsmen answered the call of duty and made the ultimate sacrifice for the security of our country and the peace of the world.

Throughout our Nation's history, members of the Armed Forces have taken great risks to keep America strong and free. These proud patriots have defended the innocent, freed the oppressed, and helped spread the promise of liberty to all corners of the earth. In serving our Nation, they have been unrelenting in battle, unwavering in loyalty, and unmatched in decency. Because of their selfless courage, millions of people who once lived under tyranny now are free, and America is more secure.

On Memorial Day, we remember that this history of great achievement has been accompanied by great sacrifice. To secure our freedom, many heroic service members have given their lives. This year we mark the 60th anniversary of the end of World War II, and we remember the Americans who died on distant shores defending our Nation in that war. On Memorial Day and all year long, we pray for the families of the fallen and show our respect for the contributions these men and women have made to the story of freedom. Our grateful Nation honors their selfless service, and we acknowledge a debt that is beyond our power to repay.

In respect for their devotion to America, the Congress, by a joint resolution approved on May 11, 1950, as amended (64 Stat. 158), has requested the President to issue a proclamation calling on the people of the United States to observe each Memorial Day as a day of prayer for permanent peace and designating a period on that day when the people of the United States might unite in prayer. The Congress, by Public Law 106-579, has also designated the minute beginning at 3:00 p.m. local time on that day as a time for all Americans to observe the National Moment of Remembrance.

NOW, THEREFORE, I, GEORGE W. BUSH, President of the United States of America, do hereby proclaim Memorial Day, May 30, 2005, as a day of prayer for permanent peace, and I designate the hour beginning in each locality at 11:00 a.m. of that day as a time to unite in prayer. I also ask all Americans to observe the National Moment of Remembrance beginning at 3:00 p.m. local time on Memorial Day. I urge the media to participate in these observances.

I also request the Governors of the United States and the Commonwealth of Puerto Rico, and the appropriate officials of all units of government, to direct that the flag be flown at half-staff until noon on this Memorial Day on all buildings, grounds, and naval vessels throughout the United States, and in all areas under its jurisdiction and control. I also request the people of the United States to display the flag at half-staff from their homes for the customary forenoon period.

IN WITNESS WHEREOF, I have hereunto set my hand this twentieth day of May, in the year of our Lord two thousand five, and of the Independence of the United States of America the two hundred and twenty-ninth.

B

[FR Doc. 05-10561

Filed 5-24-05; 8:45 am]

Billing code 3195-01-P